DEPARTMENT OF COMMERCE

International Trade Administration

[A-489-829, A-583-859, A-588-876]

Steel Concrete Reinforcing Bar From the Republic of Turkey, Taiwan, and Japan; Final Results of First Expedited Sunset Reviews of the Antidumping Duty Orders

AGENCY: Enforcement and Compliance, International Trade Administration, Department of Commerce.

SUMMARY: As a result of these expedited sunset reviews, the U.S. Department of Commerce (Commerce) finds that revocation of the antidumping duty (AD) orders on steel concrete reinforcing bars from the Republic of Turkey (Turkey), Taiwan, and Japan would be likely to lead to continuation or recurrence of dumping at the levels indicated in the “Final Results of Review” section of this notice.

DATES: Applicable October 4, 2022.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On June 1, 2022, Commerce published the notice of initiation of the sunset review of the AD orders on steel concrete reinforcing bar from Turkey, Taiwan, and Japan ¹ pursuant to section 751(c) of the Tariff Act of 1930, as amended (the Act).² On June 15, 2022, Commerce received a notice of intent to participate from the domestic interested parties ³ for the Orders within the deadline specified in 19 CFR 351.218(d)(1)(i).⁴ The domestic interested parties claimed domestic interested party status under section 771(9)(C) of the Act, as manufacturers of domestic like product in the United States.⁵ On June 30, 2022, the domestic interested parties submitted a timely substantive responses for each sunset review within the 30-day deadline specified in 19 CFR 351.218(d)(3)(i).⁶ Commerce did not receive a substantive response from any other interested parties with respect to the Orders covered by these sunset reviews. On July 21, 2022, Commerce notified the U.S. International Trade Commission that it did not receive an adequate substantive response from respondent interested parties in any of these sunset reviews.⁷ As a result, pursuant to section 751(c)(3)(B) of the Act and 19 CFR 351.218(e)(1)(ii)(C)(2), Commerce conducted expedited (120-day) sunset reviews of these Orders.

¹ See Steel Concrete Reinforcing Bar from the Republic of Turkey and Japan: Amended Final Affirmative Antidumping Duty Determination for the Republic of Turkey and Antidumping Duty Orders, 82 FR 32532 (July 14, 2017); and Steel Concrete Reinforcing Bar from Taiwan: Antidumping Duty Order, 82 FR 45809 (October 2, 2017) (collectively Orders).

² See Initiation of Five-Year (Sunset) Reviews, 87 FR 33123 (June 1, 2022).

³ The domestic interested parties are the Rebar Trade Action Coalition and its individual members. The Individual members are Nucor Corporation, Gerdau Ameristeel US Inc., Commercial Metals Company, Steel Dynamics, Inc., and Byer Steel.

⁴ See Domestic Interested Parties' Letters, “Notice of Intent to Participate—Turkey,” dated June 15, 2022 (Participation Notice Turkey); “Notice of Intent to Participate -Taiwan,” dated June 15, 2022 (Participation Notice Taiwan); and “Notice of Intent to Participate—Japan,” dated June 15, 2022 (Participation Notice Japan).

⁵ See Participation Notice Turkey at 2; Participation Notice Taiwan at 2; and Participation Notice Japan at 2.

⁶ See Domestic Interested Parties' Letters, “Substantive Response,” dated June 30, 2022; “Substantive Response, dated June 30, 2022; and “Substantive Response, dated June 30, 2022.

⁷ See Commerce's Letter, “Sunset Reviews Initiated on June 1, 2022,” dated July 21, 2022.

Scope of the Orders

The merchandise subject to these Orders is steel concrete reinforcing bar imported in either straight length or coil form (rebar) regardless of metallurgy, length, diameter, or grade or lack thereof. Subject merchandise includes deformed steel wire with bar markings (e.g., mill mark, size, or grade) and which has been subjected to an elongation test. For a full description of the scope, see the Issues and Decision Memorandum.⁸

⁸ See Memorandum, “Issues and Decision Memorandum for the Final Results of First Expedited Sunset Reviews of the Antidumping Duty Orders on Steel Concrete Reinforcing Bar from the Republic of Turkey, Taiwan, and Japan,” dated concurrently with, and hereby adopted by, this notice (Issues and Decision Memorandum).

Analysis of Comments Received

All issues raised in these sunset reviews are addressed in the Issues and Decision Memorandum, including the likelihood of continuation or recurrence of dumping and the magnitude of the margins of dumping likely to prevail if these Orders were revoked. A list of the issues discussed in the decision memorandum is attached as an appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx.

Final Results of Sunset Reviews

Pursuant to sections 751(c) and 752(c) of the Act, Commerce determines that revocation of the Orders would be likely to lead to continuation or recurrence of dumping, and that the magnitude of the dumping margins likely to prevail would be weighted-average margins of up to 4.17 percent for Turkey, up to 32.01 percent for Taiwan, and up to 209.46 percent for Japan.

Administrative Protective Order

This notice serves as the only reminder to parties subject to an administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notification to Interested Parties

We are issuing and publishing these final results in accordance with sections 751(c), 752(c), and 777(i)(1) of the Act, and 19 CFR 351.218(e)(1)(ii)(C)(2) and 19 CFR 351.221(c)(5)(ii).

Dated: September 28, 2022.
Abdelali Elouaradia,
Deputy Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2022-21519 Filed 10-3-22; 8:45 am]

BILLING CODE 3510-DS-P